DEPARTMENT OF TRANSPORTATION

Coast Guard

33 CFR Part 110

[CGD07 99-058]

RIN 2115-AA98

Special Anchorage Area; St. Lucie River, Stuart, Florida

AGENCY: Coast Guard, DOT.

ACTION: Final rule.

SUMMARY: The Coast Guard is establishing a special anchorage area on the St. Lucie River in Stuart, FL. This area is currently used as a temporary and long-term area for vessels to anchor. The establishment of this anchorage will improve the safety of vessels anchoring within and transiting the highly trafficked area, while also lessening the detrimental impact on the ecosystem by providing a designated safer area for vessels to anchor.

DATES: This regulation becomes effective on February 18, 2000.

ADDRESSES: Comments and material received from the public, as well as documents indicated in this preamble as being available in the docket, are part of docket [CGD07 99-058] and are available for inspection or copying at the Seventh Coast Guard District, Room 406, 909 S.E. First Avenue, Miami, FL, between 7:30 a.m. and 4 p.m. Monday through Friday, except Federal holidays.

FOR FURTHER INFORMATION CONTACT: LT Kerstin Rhinehart, Seventh Coast Guard District, Aids to Navigation Branch, at (305) 536-4566.

SUPPLEMENTARY INFORMATION:

Regulatory Information

We published a notice of proposed rulemaking concerning these regulations in the Federal Register on August 30, 1999 (64 FR 47156). Two comments were received during the comment period.

Background and Purpose

This rule is in response to a request made by the City of Stuart to establish a city managed mooring field on the St. Lucie River. The intended effect of the regulation is to reduce the risk of vessel collisions by providing notice to mariners of the establishment of a special anchorage area, in which vessels not more than 65 feet in length shall not be required to carry or exhibit anchor lights as required by the Navigation Rules. The establishment of the special anchorage has been in coordination with and endorsed by the Florida Department of Environmental Protection (DEP). The DEP determined that properly managed mooring and anchorage fields located in appropriate areas, will encourage vessels to utilize them for safety purposes, and as a side benefit the ecosystem will incur lessened or negligible detrimental impacts.

Discussion of Comments and Changes

Two letters were received objecting to the establishment of the a special anchorage in St. Lucie, FL. The letters objected to the regulation of live aboard vessels, the possibility of future development in the area, the cost of utilizing an established mooring within the special anchorage, and the possible restricted use of the waterways between boats in the area. The Coast Guard considered these comments, however has decided not to make any changes to the proposed rule. The Coast Guard has no control over future development in the area and the cost to utilize the anchorage will be determined by the City of Stuart. The Coast Guard still feels that the establishment of this anchorage area as published will improve the safety of vessels in this highly trafficked area

Regulatory Evaluation

This rule is not a “significant regulatory action” under section 3(f) of Executive Order 12866 and does not require an assessment of potential costs and benefits under section 6(a)(3) of that order. The Office of Management and Budget has not reviewed it under that order. It is not “significant” under the regulatory policies and procedures of the Department of Transportation (DOT) (44 FR 11040:February 26, 1979). The Coast Guard expects the economic impact of this proposal to be so minimal that a full Regulatory Evaluation under paragraph 10(e) of the regulatory policies and procedures of DOT is unnecessary.

Small Entities

Under the Regulatory Flexibility Act (5 U.S.C. 601 et seq.), the Coast Guard must consider whether this rule will have a significant economic effect upon a substantial number of small entities. “Small entities” include small business, not-for-profit organizations that are independently owned and operated and are not dominant in their fields, and governmental jurisdictions with populations of less than 50,000.

Therefore, the Coast Guard certifies under 5 U.S.C. 605(b) that this rule will not have a significant economic impact on a substantial number of small entities as use of the anchorage area is voluntary.

Assistance for Small Entities

Under section 213(a) of the Small Business Regulatory Enforcement Fairness Act of 1996 (Pub. L. 104-221), we offer to assist small entities in understanding the rule so that they could better evaluate its effects on them and participate in the rulemaking process. Small entities may contact the person listed under FOR FURTHER INFORMATION CONTACT for assistance in understanding and participating in this rulemaking. We also have a point of contact for commenting on actions by employees of the Coast Guard. Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information requirements under the Paperwork Reduction Act (44 U.S.C. 3501 et seq.).

Federalism

We have analyzed this rule under Executive Order 13132 and have determined that this rule does not have implications for federalism under that order.

Unfunded Mandates Reform Act

The Unfunded Mandates Reform Act of 1995 (2 U.S.C. 1531—1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or safety that may disproportionately affect children.

Environment

The Coast Guard, in association with the Florida Department of Environmental Protection, considered the environmental impact of this proposed rule, and determined under Figure 2-1, paragraph 34(f) of Commandant Instruction M16475.1C, that this rule is categorically excluded from further environmental documentation.

List of Subjects in 33 CFR Part 110

Special anchorage areas.

Final Regulation

In consideration of the foregoing, the Coast Guard amends Part 110 of Title 33, Code of Federal Regulations, as follows:

PART 110—[AMENDED]

1. The Authority citation for Part 110 continues to read as follows:

Authority: 33 U.S.C. 471, 2030, 2035, and 2071; 49 CFR 1.46 and 33 CFR 1.05-1(g). Section 110.1a and each section listed in 110.1a is also issued under 33 U.S.C. 1223 and 1231.

2. Section 110.73c is added to read as follows:

§ 110.73c. Okeechobee Waterway, St. Lucie River, Stuart, FL.

The following is a special anchorage area: Beginning on the Okeechobee Intracoastal Waterway between mile marker 7 and 8 on the St. Lucie River, bounded by a line beginning at 27°12′06.583”N, 80°15′33.447”W; thence to 27°12′07.811”N, 80°15′38.861”W; thence to 27°12′04.584”N, 80°15′41.437”W; thence to 27°11′49.005”N, 80°15′44.796”W; thence to 27°11′47.881”N, 80°15′38.271”W; thence to the point of beginning. All coordinates reference Datum NAD:83.

Note: This area is principally used by recreational vessels. The mooring of vessels in this area is administered by the local Harbormaster, City of Stuart, Florida.

Dated: January 10, 2000.
G.W. Sutton,
Captain U.S. Coast Guard Commander, Seventh Coast Guard District Acting.

[FR Doc. 00-1228 Filed 1-18-00; 8:45 am]

BILLING CODE 4910-15-U